DEPARTMENT OF HEALTH AND HUMAN SERVICES

Centers for Disease Control and Prevention

Disease, Disability, and Injury Prevention and Control Special Emphasis Panel (SEP)—Funding Opportunity Announcement (FOA), PAR 16-098, Cooperative Research Agreements to the World Trade Center Health Program (U01); Amended Notice of Meeting

Notice is hereby given of a change in the meeting of the Disease, Disability, and Injury Prevention and Control Special Emphasis Panel (SEP)— Funding Opportunity Announcement (FOA), PAR 16-098, Cooperative Research Agreements to the World Trade Center Health Program (U01); Dates and Times: March 27, 2019, 8:00 a.m.-5:00 p.m., EDT and March 28, 2019, 8:00 a.m.-12:00 p.m., EDT. Hampton Inn & Suites Atlanta Buckhead, 3312 Piedmont Road, Atlanta, Georgia 30305, which was published in the Federal Register on January 31, 2019, Volume 84, Number 21, pages 730.

The meeting is being amended to Atlanta Marriott Buckhead Hotel & Conference Center, 3405 Lenox Road NE, Atlanta, GA 30326, Telephone: (404) 261-9250. The meeting is closed to the public.

For Further Information Contact: Nina Turner, Ph.D., Scientific Review Officer, CDC/NIOSH, 1095 Willowdale Road, Mailstop L1055, Morgantown, West Virginia 26505, Telephone: (304) 285-5975, nxt2@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-02164 Filed 2-12-19; 8:45 am]

BILLING CODE 4163-18-P